DELAWARE RIVER BASIN COMMISSION

Notice of Commission Meeting and Public Hearing

Notice is hereby given that the Delaware River Basin Commission will hold an informal conference followed by a public hearing on Thursday, April 19, 2001. The hearing will be part of the Commission's regular business meeting. Both the conference session and business meeting are open to the public and will be held at the New York City Municipal Building, One Centre Street, Building One, Room 1019, in lower Manhattan.

The conference among the Commissioners and staff will begin at 10:00 a.m. Topics of discussion will include a progress report on the Commission's Comprehensive Plan; the status of a proposal to improve the flood warning system in the Delaware River Basin; and a summary of the Toxics Advisory Committee meeting of March 23, 2001 and related activities. The session will conclude with a historical slide presentation on the New York City water supply system.

The subjects of the public hearing to be held during the 1:00 p.m. business meeting include, in addition to the dockets listed below, a resolution to amend the Commission's Comprehensive Plan and Water Code to establish water usage reporting requirements.

The dockets scheduled for public hearing are as follows:

1. New York State Department of Environmental Conservation D-77-20 (Revision 4). A resolution to continue for one year the experimental augmented conservation release program for the New York City Delaware Basin Reservoirs.

2. Merrill Creek Owners Group D-77-110 CP (Amendment 11). A resolution to amend Table A (Revised) of Docket No. D-77-110 CP (Amendment 10) to include the addition of the Liberty Electric Power, LLC facility as a “Designated Unit''.

3. Merrill Creek Owners Group D-77-110 CP (Amendment 12). A resolution to amend Table A (Revised) of Docket No. D-77-110 CP (Amendment 11) to include the addition of the Hay Road Unit #8 as a “Designated Unit''.

4. Pechiney Plastic Packaging, Inc. (formerly American National Can Company) D-97-50 RENEWAL. An application for approval of a ground water withdrawal project to supply up to 14 mg/30 days of water to the applicant's manufacturing facility from new Well No. 5 in the Kittatinny Aquifer and to retain the existing withdrawal limit from all wells of 14 million gallons (mg)/30 days. The project is located in Washington Borough, Warren County, New Jersey.

5. Bucks County Water & Sewer Authority D-99-66 CP. An application for approval of a ground water withdrawal project to supply up to 6.4 mg/30 days of water to the applicant's distribution system from new Well No. S-3 in the Brunswick Formation and to limit the withdrawal from all wells to 6.4 mg/30 days. The project is located in Solebury Township, Bucks County, Pennsylvania.

6. Buckingham Township D-2000-38 CP. An application for approval of a ground water withdrawal project to supply up to 3 mg/30 days of water to the applicant's public water distribution system from new Well No. F-3 in the Lockatong Formation and to retain the existing withdrawal limit from all wells of 33.2 mg/30 days. The project is located in Buckingham Township, Bucks County in the Southeastern Pennsylvania Ground Water Protected Area.

7. Hellertown Borough Authority D-2000-53 CP. A ground water withdrawal project to provide a standby source of supply for the applicant's public water distribution system which will continue to serve Hellertown Borough and Lower Saucon Township. The applicant requests that the withdrawal from standby Well No. 3 in the Limestone Aquifer be limited to 22 mg/30 days and that the total withdrawal from all sources remain limited to 22 mg/30 days. The project is located in Hellertown Borough, Northampton County, Pennsylvania.

8. Upper Uwchlan Township D-2000-55 CP. An application to construct a 0.3 mgd secondary lagoon sewage treatment plant (STP) and spray irrigation system to serve development along the Route 100 North corridor of Upper Uwchlan Township, Chester County, Pennsylvania. No surface water discharge is proposed.

In addition to the public hearing, the Commission will address the following at its 1:00 p.m. business meeting: minutes of the February 28, 2001 business meeting; announcements; report on hydrologic conditions in the basin; reports by the Executive Director and General Counsel; public dialogue; and resolutions (1) approving a working budget for the Comprehensive Plan and authorizing the Executive Director to issue a request for proposals for consultant services consistent with that budget; and (2) authorizing the Executive Director to issue a request for proposals to initiate a PCB TMDL stakeholder implementation process to implement the Commission's PCB management program.

Documents relating to the dockets and other items may be examined at the Commission's offices. Preliminary dockets are available in single copies upon request. Please contact Thomas L. Brand at (609) 883-9500 ext. 221 with any docket-related questions. Persons wishing to testify at this hearing are requested to register in advance with the Secretary at (609) 883-9500 ext. 203.

Individuals in need of an accommodation as provided for in the Americans With Disabilities Act who wish to attend the hearing should contact the Commission Secretary, Pamela M. Bush, directly at (609) 883-9500 ext. 203 or through the New Jersey Relay Service at 1-800-852-7899 (TTY) to discuss how the Commission may accommodate your needs. Driving directions to the meeting location are posted on the Commission's web site, at www.drbc.net.

Dated: April 3, 2001.
Pamela M. Bush,
Commission Secretary and Assistant General Counsel.

[FR Doc. 01-9085 Filed 4-11-01; 8:45 am]

BILLING CODE 6360-01-P